DEPARTMENT OF TRANSPORTATION

Federal Aviation Administration

Aviation Rulemaking Advisory Committee—New Task

AGENCY: Federal Aviation Administration (FAA), DOT.

ACTION: Notice of a new task assignment for the Aviation Rulemaking Advisory Committee (ARAC).

SUMMARY: The FAA has assigned the Aviation Rulemaking Advisory Committee (ARAC) a new task to provide recommendations regarding the certification of persons engaged in operations involving the loading of special cargo. Assignment of this task is in response to National Transportation Safety Board Recommendation A-15-014 which recommended that the FAA create a certification for personnel responsible for the loading, restraint, and documentation of special cargo loads on transport-category airplanes. This notice informs the public of the new ARAC activity and solicits membership for the new Loadmaster Certification Working Group.

FOR FURTHER INFORMATION CONTACT: Stephen Grota Cargo Focus Team, AFS-340 Federal Aviation Administration, 950 L'Enfant Plaza SW., 5th Floor, Washington, DC 20024, stephen.grota@faa.gov, phone number (781) 238-7528.

SUPPLEMENTARY INFORMATION:

ARAC Acceptance of Task

As a result of its March 23, 2016, ARAC meeting, the ARAC accepted this tasking to establish the Loadmaster Certification Working Group. The Loadmaster Certification Working Group will serve as staff to the ARAC and provide advice and recommendations on the assigned task. The ARAC will review and accept the recommendation report and will submit it to the FAA.

Background

The FAA established the ARAC to provide information, advice, and recommendations on aviation related issues that could result in rulemaking to the FAA Administrator, through the Associate Administrator for Aviation Safety.

On April 29, 2013, a Boeing 747-400 BCF operated by an air carrier conducting all-cargo operations crashed shortly after takeoff from Bagram Air Base, Bagram, Afghanistan. The airplane was destroyed from impact forces and post-crash fire. The flight was a supplemental operation conducted under part 121 of Title 14, Code of Federal Regulations (14 CFR) and was being conducted under a multimodal contract with the US Transportation Command. The intended destination for the flight was Dubai World Central—Al Maktoum International Airport, Dubai, United Arab Emirates.

The airplane's cargo included five mine-resistant ambush-protected (MRAP) vehicles secured onto pallets with shoring. Two vehicles were 12-ton MRAP all-terrain vehicles (M-ATVs) and three were 18-ton Cougars. These vehicles were considered special cargo because they could not be placed in unit load devices (ULDs) and restrained in the airplane using the locking capabilities of the airplane's main deck cargo handling system. Instead, the vehicles were secured to centerline-loaded floating pallets and restrained to the airplane's main deck using tie-down straps. Special cargo is defined in appendix C of AC 120-85A, Air Cargo Operations, as “cargo not contained in a ULD certified for the airplane cargo loading system (CLS) or not enclosed in a cargo compartment certified for bulk loading. This type of cargo requires special handling and securing/restraining procedures.”

During takeoff, the airplane immediately climbed steeply, then descended in a manner consistent with an aerodynamic stall. The National Transportation Safety Board (NTSB) investigation found strong evidence that at least one of the rear MRAP vehicles moved aft into the tail section of the airplane, damaging hydraulic systems and horizontal stabilizer components and making it impossible for the flightcrew to maintain pitch control of the airplane. The NTSB determined that the probable cause of this accident was the air carrier's inadequate procedures for restraining special cargo loads, which resulted in the loadmaster's improper restraint of the cargo, which moved aft and damaged hydraulic systems numbers 1 and 2 and horizontal stabilizer drive mechanism components, rendering the airplane uncontrollable (NTSB Aircraft Accident Report NTSB/AAR-15/01 PB2015-104951).

As a result of this accident, the NTSB issued Safety Recommendation A-15-14 which recommended, in part, that the FAA “[c]reate a certification for personnel responsible for the loading, restraint, and documentation of special cargo loads on transport-category airplanes.” Currently, there is no certificated position for the loading of special cargo specified in the FAA's regulations. Therefore, there are no specific individual standards or training requirements to ensure adherence to operational limitations. Additionally, there is no specific FAA oversight of these personnel outside of that normally conducted of a certificate holder's operations. The FAA believes that such oversight is especially critical when special cargo is carried in an aircraft.

Persons performing special cargo loading functions typically prepare and validate the accuracy of aircraft load manifests and ensure the aircraft is loaded according to an approved schedule that ensures the aircraft's center of gravity is within approved limits. Proper performance of these functions is critical to ensure the flight characteristics of an aircraft are not adversely affected and that its structural limitations are not exceeded.

The Task

The Loadmaster Certification Working Group is tasked to:

1. Provide advice and recommendations to the ARAC on whether safety would be enhanced if persons engaged in the loading and supervision of the loading of special cargo, to include the preparation and accuracy of special cargo load plans, be certificated. If the Working Group recommends certification of these persons, it should also provide recommendations regarding which specific operations should require the use of these certificated persons. Additionally, it should also recommend appropriate knowledge, experience, and skill requirements for the issuance of the certificates and appropriate privileges and limitations.

2. Determine the effect of its recommendations on impacted parties.

3. Develop a report containing recommendations based upon its analysis and findings. The report should document both majority and dissenting positions on its recommendations and findings and the rationale for each position. Any disagreements should be documented, including the rationale for each position and the reasons for the disagreement.

In developing this report the Working Group shall familiarize itself with:

1. NTSB Aircraft Accident Report NTSB/AAR-15/01 PB2015-104951NTSB, with particular attention provided to Safety Recommendation A-15-14.

2. AC 120-85A, Air Cargo Operations.

3. Minutes of the June 30, 2015 B747 Special Cargo Load Meeting.

The working group may be reinstated to assist the ARAC by responding to FAA's questions or concerns after its recommendations have been submitted.

Schedule

The recommendation report should be submitted to the FAA for review and acceptance no later than 24 months from the publication date of this notice in the Federal Register.

Working Group Activity

The Loadmaster Certification Working Group must comply with the procedures adopted by the ARAC and:

1. Conduct a review and analysis of the assigned tasks and any other related materials or documents.

2. Draft and submit a work plan for completion of the task, including the rationale supporting such a plan, for consideration by the ARAC.

3. Provide a status report at each ARAC meeting.

4. Draft and submit the recommendation report based on the review and analysis of the assigned tasks.

5. Present the recommendation report at the ARAC meeting.

Participation in the Working Group

The Loadmaster Certification Working Group will be comprised of technical experts having an interest in the assigned task. A working group member need not be a member representative of the ARAC. The FAA would like a wide range of members to ensure all aspects of the tasks are considered in development of the recommendations. The provisions of the August 13, 2014, Office of Management and Budget guidance, “Revised Guidance on Appointment of Lobbyists to Federal Advisory Committees, Boards, and Commissions” (79 FR 47482), continues the ban on registered lobbyists participating on Agency Boards and Commissions if participating in their “individual capacity.” The revised guidance now allows registered lobbyists to participate on Agency Boards and Commissions in a “representative capacity” for the “express purpose of providing a committee with the views of a nongovernmental entity, a recognizable group of persons or nongovernmental entities (an industry, sector, labor unions, or environmental groups, etc.) or state or local government” (For further information, see the Lobbying Disclosure Act of 1995 (LDA) as amended, 2 U.S.C. 1603, 1604, and 1605).

If you wish to become a member of the Loadmaster Certification Working Group, contact the person listed under the caption FOR FURTHER INFORMATION CONTACT expressing that desire. Describe your interest in the task and state the expertise you would bring to the working group. The FAA must receive all requests by June 13, 2016. The ARAC and the FAA will review the requests and advise you whether or not your request is approved.

If you are chosen for membership on the working group, you must actively participate in the working group, attend all meetings, and provide written comments when requested. You must devote the resources necessary to support the working group in meeting any assigned deadlines. You must keep your management and those you may represent advised of working group activities and decisions to ensure the proposed technical solutions do not conflict with the position of those you represent. Once the working group has begun deliberations, members will not be added or substituted without the approval of the ARAC Chair, the FAA, including the Designated Federal Officer, and the Working Group Chair.

The Secretary of Transportation determined the formation and use of the ARAC is necessary and in the public interest in connection with the performance of duties imposed on the FAA by law. The ARAC meetings are open to the public. However, meetings of the Loadmaster Certification Working Group are not open to the public, except to the extent individuals with an interest and expertise are selected to participate. The FAA will make no public announcement of working group meetings.

Issued in Washington, DC, on May 4, 2016.
Lirio Liu,
Designated Federal Officer, Aviation Rulemaking Advisory Committee.

[FR Doc. 2016-11104 Filed 5-11-16; 8:45 am]

BILLING CODE 4910-13-P